DEPARTMENT OF TRANSPORTATION

Federal Aviation Administration

14 CFR Part 39

[Docket No. FAA-2013-0828; Directorate Identifier 2012-NM-036-AD]

RIN 2120-AA64

Airworthiness Directives; Airbus Airplanes

AGENCY: Federal Aviation Administration (FAA), DOT.

ACTION: Notice of proposed rulemaking (NPRM).

SUMMARY: We propose to supersede airworthiness directive (AD) 2009-15-17, which applied to certain Airbus Model A330-200 and -300; and Model A340-200 and -300 series airplanes. AD 2009-15-17 required an inspection for damage to the protective treatments or any corrosion of all main landing gear (MLG) bogie beams, and application of protective treatments if no damage or corrosion was found. If any damage or corrosion was found, corrective action followed by the application of protective treatments was required. Since we issued AD 2009-15-17, we received reports of thin paint coats and paint degradation on enhanced MLG bogie beams. This proposed AD would add repetitive detailed inspections of the MLG bogie beams. This proposed AD would also require modification of the MLG bogie beams, which would terminate the repetitive inspections for any modified bogie beam. This proposed AD would also provide optional methods of compliance for inspections for corrosion, damage of the protective treatment, repair, and modification, of the MLG bogie beam. This proposed AD would also revise the applicability. We are proposing this AD to detect and correct damage or corrosion of the MLG bogie beams, which could cause a runway excursion event, bogie beam detachment from the airplane, or MLG collapse, which could result in damage to the airplane and injury to the occupants.

DATES: We must receive comments on this proposed AD by November 12, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. For Messier-Dowty service information identified in this AD, contact Messier-Dowty: Messier Services Americas, Customer Support Center, 45360 Severn Way, Sterling, VA 20166-8910; telephone 703-450-8233; fax 703-404-1621; Internet https://techpubs.services/messier-dowty.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2013-0828; Directorate Identifier 2012-NM-036-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On July 2, 2009, we issued AD 2009-15-17, Amendment 39-15980 (74 FR 37523, July 29, 2009). That AD required actions intended to address an unsafe condition on the products listed above.

Since we issued AD 2009-15-17, Amendment 39-15980 (74 FR 37523, July 29, 2009), we received reports of thin paint coats and paint degradation on enhanced MLG bogie beams. The European Aviation Safety Agency (EASA), which is the Technical Agent for the Member States of the European Community, has issued EASA Airworthiness Directive 2012-0015, dated January 23, 2012 (referred to after this as “the MCAI”), to correct an unsafe condition for the specified products. The MCAI states:

The operator of an A330 aeroplane (which has a common bogie beam with the A340) reported a fracture of the right-hand (RH) main landing gear (MLG) bogie beam, which occurred while turning during low speed taxi maneuvers. The bogie fractured aft of the pivot point and remained attached to the sliding tube by the brake torque reaction rods. After this RH bogie failure, the aeroplane continued for approximately 40 meters on the forks of the sliding member before coming to rest on the taxiway.

The preliminary investigations revealed that his event was due to corrosion pitting occurring on the bore of the bogie beam. Investigations are ongoing to determine why bogie beam internal paint has been degraded, leading to a loss of cadmium plating, thereby allowing development of corrosion pitting.

This condition if not detected and corrected, could lead to a runway excursion event or to detachment of the bogie from the aeroplane, or to MLG collapse, possibly resulting in damage to the aeroplane and injury to the occupants.

To enable early detection and repair of corrosion of the internal surfaces, EASA issued EASA AD 2007-0314 to require a one-time inspection of all MLG bogie beams, except Enhanced MLG bogie beams, and the reporting of the results to Airbus. EASA AD 2007-0314 was revised and later superseded by EASA AD 2008-0093, reducing the inspection threshold.

The results of subsequent investigations showed thin paint coats and paint degradation, confirmed as well on Enhanced MLG bogie beams. To address this additional concern, EASA issued EASA AD 2011-0141 [which was not mandated by the FAA], retaining the requirements of EASA AD 2008-0093, which was superseded, to require a one-time visual inspection of all MLG bogie beams, including a visual examination of the internal diameter for corrosion or damage to protective treatments of the bogie beam and measurement of the paint thickness on the internal bore, accomplishment of the applicable corrective actions and a modification of the MLG bogie beam to improve the coat paint application method, and application of corrosion protection.

Prompted by in-service requests, this [EASA] AD retains the requirements of EASA AD 2011-0141, which is superseded, and introduces repetitive inspections [for damage to protective treatments or corrosion] of the MLG bogie beams, which allows extension of the compliance time for the MLG bogie beam modification [for improved protection from corrosion] from 15 years to 21 years. Modification of a MLG bogie beam constitutes terminating action for the repetitive inspections for that MLG bogie beam.

This proposed AD also provides optional methods of compliance for inspections for corrosion, damage of the protective treatment, repair, and modification, of the MLG bogie beam. You may obtain further information by examining the MCAI in the AD docket.

Relevant Service Information

Airbus and Messier-Dowty have issued the following service bulletins. The actions described in this service information are intended to correct the unsafe condition identified in the MCAI.

• Airbus Mandatory Service Bulletins A330-32-3237 (for Model A330 series airplanes), dated January 18, 2011.

• Airbus Mandatory Service Bulletin A340-32-4279 (for Model A340 series airplanes), dated January 18, 2011.

• Messier-Dowty Service Bulletin A33/34-32-272, including Appendices A, B, C, and D, Revision 1, dated September 22, 2008.

• Messier-Dowty Service Bulletin A33/34-32-278, including Appendices A and B, dated February 17, 2010.

• Messier-Dowty Service Bulletin A33/34-32-283, including Appendix A, dated May 11, 2010.

• Messier-Dowty Service Bulletin A33/34-32-284, including Appendix A, dated May 11, 2010.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

This AD differs from the MCAI and/or service information as follows: The MCAI specifies repair and corrective actions in accordance with Airbus Mandatory Service Bulletin A330-32-3225, Revision 1, dated October 30, 2008; or A340-32-4268, Revision 1, dated October 30, 2008. However, Airbus Mandatory Service Bulletins A330-32-3225, Revision 1, dated October 30, 2008; and A340-32-4268, Revision 1, dated October 30, 2008; do not describe those actions. Paragraphs (g)(1)(i) and (g)(1)(ii) of this proposed AD specify repair and corrective actions in accordance with Messier-Dowty Service Bulletin A33/34-32-272, Revision 1, including Appendices A, B, C, and D, dated September 22, 2008.

Costs of Compliance

We estimate that this proposed AD affects 51 airplanes of U.S. registry. We estimate the following costs to comply with this proposed AD:

Estimated Costs
Action | Labor cost | Parts cost | Cost per product | Cost on U.S. operators
Inspection and actions retained from AD 2009-15-17 (74 FR 37523, July 29, 2009) | 22 work-hours × $85 per hour = $1,870 per inspection cycle | $0 | $1,870 per inspection cycle | $95,370 per inspection cycle.
Inspection and modification [new proposed actions] | 44 work-hours × $85 per hour = $3,740 per inspection cycle | 0 | 3,740 per inspection cycle | 190,740 per inspection cycle.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-15-17, Amendment 39-15980 (74 FR 37523, July 29, 2009), and adding the following new AD:

Airbus: Docket No. FAA-2012-0828; Directorate Identifier 2012-NM-036-AD.

(a) Comments Due Date

We must receive comments by November 12, 2013.

(b) Affected ADs

This AD supersedes AD 2009-15-17, Amendment 39-15980 (74 FR 37523, July 29, 2009).

(c) Applicability

This AD applies to Airbus Model A330-201, -202, -203, -223, -223F, -243, -243F, -301, -302, -303, -321, -322, -323, -341, -342, and -343 airplanes; and Model A340-211, -212, -213, -311, -312, and -313 airplanes; certificated in any category; all manufacturer serial numbers, except those airplanes on which Airbus modification 58896 has been embodied in production.

(d) Subject

Air Transport Association (ATA) of America Code 32, Landing gear.

(e) Reason

This AD was prompted by reports of thin paint coats and paint degradation on enhanced main landing gear (MLG) bogie beams. We are issuing this AD to detect and correct damage or corrosion of the MLG bogie beams, which could cause a runway excursion event, bogie beam detachment from the airplane, or main landing gear collapse, which could in result damage to the airplane and injury to the occupants.

(f) Compliance

You are responsible for having the actions required by this AD performed within the compliance times specified, unless the actions have already been done.

(g) Retained Actions and Compliance

This paragraph restates the requirements of paragraph (f) of AD 2009-15-17, Amendment 39-15980 (74 FR 37523, July 29, 2009). For Airbus Model A330-200, A330-300, A340-200, and A340-300 series airplanes, all serial numbers, except those on which Airbus modification 54500 has been embodied in production or Airbus Service Bulletin A330-32-3212 has been embodied in service: Unless already done, do the following actions.

(1) At the applicable compliance time specified in paragraph (g)(2) or (g)(3) of this AD: Clean the internal bore and perform a detailed visual inspection of internal surfaces of the MLG bogie beam (right-hand and left-hand) for any damage to the protective treatments or any corrosion, in accordance with the Accomplishment Instructions of Airbus Mandatory Service Bulletin A330-32-3225 or A340-32-4268, both Revision 01, both dated October 30, 2008; as applicable.

(i) If no damage and corrosion is found, before further flight, apply the protective treatments of the bogie beam, in accordance with the Accomplishment Instructions of Messier-Dowty Service Bulletin A33/34-32-272, Revision 1, including Appendices A, B, C, and D, dated September 22, 2008.

(ii) If any damage or corrosion is found, before further flight, do all applicable corrective actions and apply the protective treatments of the bogie beam, in accordance with the Accomplishment Instructions of Messier-Dowty Service Bulletin A33/34-32-272, Revision 1, including Appendices A, B, C, and D, dated September 22, 2008.

(2) For airplanes with 54 months or less time-in-service since the date of issuance of the original French airworthiness certificate or the date of issuance of the original French or EASA export certificate of airworthiness as of September 2, 2009 (the effective date of AD 2009-15-17, Amendment 39-15980 (74 FR 37523, July 29, 2009): At the latest of the applicable times specified in paragraphs (g)(2)(i), (g)(2)(ii), and (g)(2)(iii) of this AD, do the actions required by paragraph (g)(1) of this AD.

(i) Not before 54 months since the date of issuance of the original French airworthiness certificate or the date of issuance of the original French or EASA export certificate of airworthiness, but no later than 72 months since the date of issuance of the original French airworthiness certificate or the date of issuance of the original French or EASA export certificate of airworthiness.

(ii) Not before 54 months since the installation of a new bogie beam in-service before September 2, 2009 (the effective date of AD 2009-15-17, Amendment 39-15980 (74 FR 37523, July 29, 2009)), but no later than 72 months since the installation of a new bogie beam in-service before September 2, 2009 (the effective date of AD 2009-15-17).

(iii) Not before 54 months since the last overhaul of a bogie beam before September 2, 2009 (the effective date of AD 2009-15-17, Amendment 39-15980 (74 FR 37523, July 29, 2009), but no later than 72 months since the last overhaul of a bogie beam before September 2, 2009 (the effective date of AD 2009-15-17).

(3) For airplanes with more than 54 months time-in-service since the date of issuance of the original French airworthiness certificate or the date of issuance of the original French or EASA export certificate of airworthiness as of September 2, 2009 (the effective date of AD 2009-15-17, Amendment 39-15980 (74 FR 37523, July 29, 2009): At the applicable time specified in paragraph (g)(3)(i), (g)(3)(ii), (g)(3)(iii), (g)(3)(iv), or (g)(3)(v) of this AD, do the actions required by paragraph (g)(1) of this AD.

(i) For airplanes on which the bogie beam has not been replaced or overhauled since the date of issuance of the original French airworthiness certificate or the date of issuance of the original French or EASA export certificate of airworthiness as of September 2, 2009 (the effective date of AD 2009-15-17, Amendment 39-15980 (74 FR 37523, July 29, 2009): Within 18 months after September 2, 2009 (the effective date of AD 2009-15-17).

(ii) For airplanes on which the bogie beam has been replaced in-service with a new bogie beam and the new bogie beam has more than 54 months time-in-service as of September 2, 2009 (the effective date of AD 2009-15-17, Amendment 39-15980 (74 FR 37523, July 29, 2009): Within 18 months after September 2, 2009 (the effective date of AD 2009-15-17).

(iii) For airplanes on which the bogie beam has been replaced in-service with a new bogie beam and the new bogie beam has 54 months or less time-in-service as of September 2, 2009 (the effective date of AD 2009-15-17, Amendment 39-15980 (74 FR 37523, July 29, 2009): Not before 54 months since the installation of a new bogie beam in-service before September 2, 2009 (the effective date of AD 2009-15-17), but no later than 72 months since the installation of a new bogie beam in-service before September 2, 2009 (the effective date of AD 2009-15-17).

(iv) For airplanes on which the bogie beam has been overhauled and the overhauled bogie beam has more than 54 months time-in-service as of September 2, 2009 (the effective date of AD 2009-15-17, Amendment 39-15980 (74 FR 37523, July 29, 2009): Within 18 months after September 2, 2009 (the effective date of AD 2009-15-17), or at the next scheduled bogie beam overhaul, whichever occurs first.

(v) For airplanes on which the bogie beam has been overhauled and the overhauled bogie beam has 54 months or less time-in-service as of September 2, 2009 (the effective date of AD 2009-15-17, Amendment 39-15980 (74 FR 37523, July 29, 2009): Not before 54 months since the last overhaul of a bogie beam before September 2, 2009 (the effective date of AD 2009-15-17), but no later than 72 months since the last overhaul of a bogie beam before September 2, 2009 (the effective date of AD 2009-15-17).

(4) Within 30 days after accomplishment of the inspection required by paragraph (g)(1) of this AD, or within 30 days after September 2, 2009 (the effective date of AD 2009-15-17, Amendment 39-15980 (74 FR 37523, July 29, 2009), whichever occurs later: Report the results, including no findings, to Airbus, 1 Rond Point Maurice Bellonte, 31707 Blagnac Cedex, France; email airworthiness.A330-A340@airbus.com.

(5) Actions accomplished in accordance with Messier-Dowty Service Bulletin A33/34-32-271, Revision 1, including Appendices A and B, dated November 16, 2007, are considered acceptable for compliance with the corresponding requirements of this AD.

(6) Actions accomplished before September 2, 2009 (the effective date of AD 2009-15-17, Amendment 39-15980 (74 FR 37523, July 29, 2009), in accordance with the service bulletins specified in paragraphs (g)(6)(i) through (g)(6)(iv) of this AD are considered acceptable for compliance with the corresponding requirements of this AD.

(i) Airbus Mandatory Service Bulletin A330-32-3225, dated November 21, 2007.

(ii) Airbus Mandatory Service Bulletin A340-32-4268, dated November 21, 2007.

(iii) Messier-Dowty Service Bulletin A33/34-32-271, including Appendix A, dated September 13, 2007.

(iv) Messier-Dowty Service Bulletin A33/34-32-272, including Appendices A, B, C, and D, dated November 16, 2007.

(h) New Requirement of This AD: Repetitive Inspections

For Airbus Model A330-201, -202, -203, -223, -223F, -243, -243F, -301, -302, -303, -321, -322, -323, -341, -342, and -343 airplanes; and Model A340-211, -212, -213, -311, -312, and -313 airplanes; all manufacturer serial numbers, except those airplanes on which Airbus modification 58896 has been embodied in production: Repeat the inspection required by paragraph (g)(1) of this AD at intervals not to exceed 72 months, but not before 48 months since first flight after the most recent MLG bogie beam overhaul done after the most recent inspection, until the modification specified in paragraph (i) of this AD is done.

(i) New Inspection and Modification

For Airbus Model A330-201, -202, -203, -223, -223F, -243, -243F, -301, -302, -303, -321, -322, -323, -341, -342, and -343 airplanes; and Model A340-211, -212, -213, -311, -312, and -313 airplanes; all manufacturer serial numbers, except those airplanes on which Airbus modification 58896 has been embodied in production: Before the accumulation of 252 months on a MLG bogie beam, or within 90 days after the effective date of this AD, whichever occurs later, do the actions specified in paragraphs (i)(1) and (i)(2) of this AD.

(1) Do a detailed inspection for damage and corrosion of the internal bores of the MLG bogie beam, in accordance with the Accomplishment Instructions of Airbus Mandatory Service Bulletin A330-32-3237 or A340-32-4279, both dated January 18, 2011, as applicable. If any damage or corrosion is found, repair, as applicable, in accordance with the Accomplishment Instructions of Airbus Mandatory Service Bulletin A330-32-3237 or A340-32-4279, both dated January 18, 2011, as applicable.

(2) Modify and re-identify, as applicable, the MLG bogie beam, in accordance with the Accomplishment Instructions of Airbus Service Bulletin A330-32-3237 or A340-32-4279, both dated January 18, 2011, as applicable.

(j) New Optional Terminating Action

For Airbus Model A330-201, -202, -203, -223, -223F, -243, -243F, -301, -302, -303, -321, -322, -323, -341, -342, and -343 airplanes; and Model A340-211, -212, -213, -311, -312, and -313 airplanes; all manufacturer serial numbers, except those airplanes on which Airbus modification 58896 has been embodied in production: Modification of a MLG bogie beam done in accordance with paragraph (i) of this AD, terminates the repetitive inspections required by paragraphs (g) and (h) of this AD for that modified MLG bogie beam.

(k) New Exception to Service Information Specifications

The inspection requirement of paragraph (i)(1) of this AD and the modification requirement of paragraph (i)(2) of this AD do not apply to any MLG bogie beam having any serial number listed in Appendix A of Messier-Dowty Service Bulletin A33/34-32-283 or A33/34-32-284, both including Appendix A, both dated May 11, 2010, as applicable.

(l) New Optional Methods of Compliance

(1) Inspections for corrosion and damage to the protective treatment of the bogie beam, and repairs, done in accordance with Messier-Dowty Service Bulletin A33/34-32-278, including appendices A and B, dated February 17, 2010, are acceptable methods of compliance with the requirements of paragraph (i)(1) of this AD.

(2) Modification of a MLG bogie beam, done in accordance with Messier-Dowty Service Bulletins A33/34-32-283 and A33/34-32-284, both including Appendix A, both dated May 11, 2010, as applicable, is an acceptable method of compliance with the requirements of paragraph (i)(2) of this AD.

(m) New Parts Installation Limitation

As of the effective date of this AD, no person may install a MLG bogie beam on any airplane unless it is in compliance with the requirements and compliance times of paragraphs (g), (h), and (i) of this AD.

(n) New Reporting Requirement

Submit a report of the findings (both positive and negative) of the inspection required by paragraph (g) or (i) of this AD to Airbus, Customer Service Directorate, 1 Rond Point Maurice Bellonte, 31707 Blagnac Cedex, France, using the applicable reporting sheet in Airbus Service Bulletin A330-32-3237 or A340-32-4279, both dated January 18, 2011, at the applicable time specified in paragraph (n)(1) or (n)(2) of this AD.

(1) If the inspection was done on or after the effective date of this AD: Submit the report within 90 days after the inspection.

(2) If the inspection was done before the effective date of this AD: Submit the report within 90 days after the effective date of this AD.

(o) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they were approved by the State of Design Authority (or its delegated agent). For a repair method to be approved, the repair approval must specifically refer to this AD. You are required to ensure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(p) Related Information

Refer to MCAI European Aviation Safety Agency (EASA) Airworthiness Directive 2012-0015, dated January 23, 2012, for related information, which can be found in the AD docket on the internet at http://www.regulations.gov.

Issued in Renton, Washington, on September 17, 2013.
Ross Landes,
Acting Manager, Transport Airplane Directorate, Aircraft Certification Service.

[FR Doc. 2013-23324 Filed 9-24-13; 8:45 am]

BILLING CODE 4910-13-P